DEPARTMENT OF TRANSPORTATION

Federal Aviation Administration

14 CFR Part 39

[Docket No. 2000-NM-321-AD]

RIN 2120-AA64

Airworthiness Directives; Empresa Brasileira de Aeronautica S.A. (EMBRAER) Model EMB-135 and EMB-145 Series Airplanes

AGENCY: Federal Aviation Administration, DOT.

ACTION: Notice of proposed rulemaking (NPRM).

SUMMARY: This document proposes the adoption of a new airworthiness directive (AD) that is applicable to certain EMBRAER Model EMB-135 and EMB-145 series airplanes. This proposal would require replacement of the engine oil pressure sensors with new sensors, and installation of an oil tank pressure relief kit. Additionally, the proposal would require revision of the Airplane Flight Manual that would specify new oil pressure limits. This action is necessary to prevent rejected takeoffs due to exceeding engine oil pressure limits, which could result in reduced controllability of the airplane. This action is intended to address the identified unsafe condition.

DATES: Comments must be received by January 18, 2001.

ADDRESSES: Submit comments in triplicate to the Federal Aviation Administration (FAA), Transport Airplane Directorate, ANM-114, Attention: Rules Docket No. 2000-NM-321-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-321-AD” in the subject line and need not be submitted in triplicate. Comments sent via the Internet as attached electronic files must be formatted in Microsoft Word 97 for Windows or ASCII text.

The service information referenced in the proposed rule may be obtained from Empresa Brasileira de Aeronautica S.A. (EMBRAER), P.O. Box 343—CEP 12.225, Sao Jose dos Campos—SP, Brazil. This information may be examined at the FAA, Transport Airplane Directorate, 1601 Lind Avenue, SW., Renton, Washington; or at the FAA, Atlanta Aircraft Certification Office, One Crown Center, 1895 Phoenix Boulevard, suite 450, Atlanta, Georgia.

FOR FURTHER INFORMATION CONTACT: Linda M. Haynes, Aerospace Engineer, Airframe and Propulsion Branch, ACE-117A, FAA, Atlanta Aircraft Certification Office, One Crown Center, 1895 Phoenix Boulevard, suite 450, Atlanta, Georgia 30337-2748; telephone (770) 703-6091; fax (770) 703-6097.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-321-AD.” The postcard will be date stamped and returned to the commenter.

Availability of NPRMs

Any person may obtain a copy of this NPRM by submitting a request to the FAA, Transport Airplane Directorate, ANM-114, Attention: Rules Docket No. 2000-NM-321-AD, 1601 Lind Avenue, SW., Renton, Washington 98055-4056.

Discussion

The FAA has received reports indicating that a high number of rejected takeoffs (RTO's) have occurred on certain EMBRAER Model EMB-145 series airplanes. We have been advised that Rolls-Royce Allison engines installed on Model EMB-145 series airplanes have been approved for operation with a transient oil pressure maximum limit of 155 pounds per square inch (psi) for up to two minutes. However, the current software configuration of the Engine Indicating and Crew Alerting System (EICAS) is not capable of displaying oil pressure limits that are above 145 psi. In addition, part of the airplane fleet is equipped with oil pressure indicators that do not show a maximum oil pressure limit or that show a “maximum” oil pressure limit below 115 psi. This condition, if not corrected, could result in a high number of RTO's and consequent reduced controllability of the airplane.

Similarity of Airplane Models

The oil pressure indicators on certain Model EMB-135 series airplanes are identical to those on the affected Model EMB-145 series airplanes. Therefore, those Model EMB-135 series airplanes may be subject to the same unsafe condition revealed on the Model EMB-145 series airplanes.

Explanation of Relevant Service Information

EMBRAER has issued Service Bulletin 145-31-0021, dated August 1, 2000, which describes procedures for replacing the oil pressure sensors with new oil pressure sensors. That service bulletin also references Rolls-Royce Service Bulletin AE 3007A-79-026, dated August 1, 2000, as an additional source of service information. In addition, EMBRAER Service Bulletin 145-31-0021 specifies concurrent accomplishment of procedures described in Rolls-Royce Service Bulletin AE 3007A-79-025, dated August 1, 2000. That Rolls-Royce service bulletin describes procedures for removing the pressurizing valve vent-tube [Part Number (P/N) 23065524], the oil tank pressurizing valve (P/N 23062185), and the oil tank-to-pressurizing valve vent-tube (P/N 23062186), and installing an oil tank pressure relief kit (P/N 23073557) and the oil tank pressurizing valve (P/N 23062185) in a new location.

The Departmento de Aviacao Civil (DAC), which is the airworthiness authority for Brazil has issued Notice of Proposed Regulations—Brazilian airworthiness directives, NPR/AD-2000-145-05, dated August 23, 2000, and NPR/AD-2000-AE3007-01, dated August 24, 2000, proposing that the actions specified in the previously described service information be made mandatory.

EMBRAER has also issued Revision 40 of EMBRAER Model 145 Airplane Flight Manual, dated August 11, 2000, which specifies certain revised maximum oil pressure limits to 145 psi.

U.S. Type Certification of the Airplane

These airplane models are manufactured in Brazil and are type certificated for operation in the United States under the provisions of section 21.29 of the Federal Aviation Regulations (14 CFR 21.29) and the applicable bilateral airworthiness agreement.

Explanation of Requirements of Proposed Rule

Since an unsafe condition has been identified that is likely to exist or develop on other airplanes of the same type design registered in the United States, the proposed AD would require accomplishment of the actions specified in EMBRAER Service Bulletin 145-31-0021, dated August 1, 2000, and Rolls-Royce Service Bulletin AE 30007A-79-025, dated August 1, 2000. In addition, this proposed AD would require installation of Revision 40 into the Limitations Section of the FAA-Approved AFM.

Differences Between This Proposal and the Foreign Notices of Proposed Regulations

Operators should note that, although the Brazilian Notices of Proposed Regulations do not specify installation of Revision 40 into the AFM, the FAA has determined that this revision of the AFM is necessary to ensure that pilots are aware of the appropriate operational limits for the oil temperature. In addition, operators should note that, although 155 psi has been approved as the maximum limit for oil pressure, Revision 40 of the AFM specifies the maximum limit for oil pressure as 145 psi. Therefore, for the purposes of this proposed AD, the operational limits for maximum oil pressure is 145 psi, as specified in Revision 40 of the AFM.

Interim Action

This is considered to be interim action. The manufacturer has advised that a new modification is currently being developed that will positively address the unsafe condition addressed by this AD. Once that modification is developed, approved, and available, the FAA may consider additional rulemaking.

Cost Impact

The FAA estimates that 185 EMBRAER Model EMB-135 and EMB-145 series airplanes of U.S. registry would be affected by this proposed AD, that it would take approximately 1 work hour per airplane to install the oil pressure sensor, and that the average labor rate is $60 per work hour. Required parts would cost approximately $3,562 per airplane. The FAA estimates that it would take approximately 2 work hours per airplane to install the oil tank pressure relief kit. Required parts would cost approximately $2,421 per airplane. Additionally, it would take approximately 1 work hour per airplane to accomplish the revision of the AFM. Based on these figures, the cost impact of the proposed AD on U.S. operators is estimated to be $1,151,255, or $6,223 per airplane.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption “ADDRESSES.”

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Empresa Brasileira de Aeronautica S.A. (EMBRAER): Docket 2000-NM-321-AD.

Applicability: Model EMB-135 and EMB-145 series airplanes, serial numbers 145001 through 145369 inclusive, equipped with Rolls-Royce/Allison engine Models AE 3007A, AE 3007A1/1, AE 3007A1/2, AE 3007A1/3, AE 3007A1, and AE 3007A1P, certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent rejected takeoffs due to exceeding engine oil pressure limits, which could result in reduced controllability of the airplane, accomplish the following:

Required Actions

(a) Within 6 months after the effective date of this AD: Accomplish the requirements of paragraphs (a)(1) and (a)(2) of this AD concurrently.

(1) Replace the engine oil pressure sensors with new sensors, per EMBRAER Service Bulletin 145-31-0021, dated August 1, 2000.

(2) Install an oil tank pressure relief kit per Rolls-Royce Service Bulletin AE 3007A-79-025, dated August 1, 2000.

(b) After completion of the actions required by paragraphs (a)(1) and (a)(2) of this AD and before further flight: Revise the Limitations Section of the FAA-approved Airplane Flight Manual (AFM) by inserting a copy of Revision 40 of the EMBRAER Model-145 AFM, dated August 11, 2000, into the AFM.

Alternative Methods of Compliance

(c) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

Note 2: Information concerning the existence of approved alternative methods of compliance with this AD, if any, may be obtained from the Manager, Atlanta ACO.

Special Flight Permits

(d) Special flight permits may be issued in accordance with sections 21.197 and 21.199 of the Federal Aviation Regulations (14 CFR 21.197 and 21.199) to operate the airplane to a location where the requirements of this AD can be accomplished.

Note 3: The subject of this AD is addressed in Brazilian Notice of Proposed Regulations NPR/AD-2000-145-05, dated August 23, 2000, and NPR/AD-2000-AE3007-01, dated August 24, 2000.

Issued in Renton, Washington, on December 13, 2000.
Dorenda D. Baker,
Acting Manager, Transport Airplane Directorate, Aircraft Certification Service.

[FR Doc. 00-32316 Filed 12-18-00; 8:45 am]

BILLING CODE 4910-13-P